DEPARTMENT OF COMMERCE

International Trade Administration

A-570-910

Notice of Antidumping Duty Order: Circular Welded Carbon Quality Steel Pipe from the People's Republic of China

AGENCY: Import Administration, International Trade Administration, Department of Commerce.

EFFECTIVE DATE: July 22, 2008.

SUMMARY: Based on affirmative final determinations by the Department of Commerce (the “Department”) and the International Trade Commission (“ITC”), the Department is issuing an antidumping duty order on circular welded carbon quality steel pipe (“CWP”) from the People's Republic of China (“PRC”). On July 15, 2008, the ITC notified the Department of its affirmative determination of material injury to a U.S. industry. See Circular Welded Carbon Quality Steel Pipe from China, Investigation Nos. 701-TA-447 and 731-TA-1116 (Final), USITC Publication 4019 (July 2008).

FOR FURTHER INFORMATION CONTACT: Thomas Martin or Maisha Cryor, Import Administration, International Trade Administration, U.S. Department of Commerce, 14th Street and Constitution Avenue, NW, Washington, DC 20230; telephone: (202) 482-3936 or (202) 482-5831, respectively.

SUPPLEMENTARY INFORMATION: In accordance with sections 735(d) and 777(i)(1) of the Tariff Act of 1930, as amended (the “Act”), on June 5, 2008, the Department published the Notice of Final Determination of Sales at Less Than Fair Value and Affirmative Final Determination of Critical Circumstances: Circular Welded Carbon Quality Steel Pipe from the People's Republic of China, 73 FR 31970 (June 5, 2008) (“Final Determination”).

Scope of Order

The merchandise subject to this proceeding is certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

Specifically, the term “carbon quality” includes products in which (a) iron predominates, by weight, over each of the other contained elements; (b) the carbon content is 2 percent or less, by weight; and (c) none of the elements listed below exceeds the quantity, by weight, as indicated:

(i) 1.80 percent of manganese;

(ii) 2.25 percent of silicon;

(iii) 1.00 percent of copper;

(iv) 0.50 percent of aluminum;

(v) 1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Standard pipe is made primarily to American Society for Testing and Materials (“ASTM”) specifications, but can be made to other specifications. Standard pipe is made primarily to ASTM specifications A-53, A-135, and A-795. Structural pipe is made primarily to ASTM specifications A-252 and A-500. Standard and structural pipe may also be produced to proprietary specifications rather than to industry specifications. This is often the case, for example, with fence tubing. Pipe multiple-stenciled to a standard and/or structural specification and to any other specification, such as the American Petroleum Institute (“API”) API-5L specification, is also covered by the scope of this investigation when it meets the physical description set forth above and also has one or more of the following characteristics: is 32 feet in length or less; is less than 2.0 inches (50 mm) in outside diameter; has a galvanized and/or painted surface finish; or has a threaded and/or coupled end finish. (The term “painted” does not include coatings to inhibit rust in transit, such as varnish, but includes coatings such as polyester.)

The scope of this investigation does not include: (a) pipe suitable for use in boilers, superheaters, heat exchangers, condensers, refining furnaces and feedwater heaters, whether or not cold drawn; (b) mechanical tubing, whether or not cold-drawn; (c) finished electrical conduit; (d) finished scaffolding; (e) tube and pipe hollows for redrawing; (f) oil country tubular goods produced to API specifications; and (g) line pipe produced to only API specifications.

The pipe products that are the subject of this investigation are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the Harmonized Tariff Schedule of the United States (“HTSUS”) classification, is dispositive of whether merchandise imported into the United States falls within the scope of the investigation.

Antidumping Duty Order

On July 15, 2008, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of CWP from the PRC. These antidumping duties will be assessed on all unliquidated entries of CWP, except for entries of merchandise exported and produced by Jiangsu Yulong Steel Pipe Co., Ltd. (“Yulong”), from the PRC entered, or withdrawn from the warehouse, for consumption on or after January 15, 2008, the date on which the Department published its preliminary determination. See Circular Welded Carbon Quality Steel Pipe from the People's Republic of China: Notice of Preliminary Determination of Sales at Less Than Fair Value and Postponement of Final Determination, 73 FR 2445 (January 15, 2008) (“Preliminary Determination”). Antidumping duties will be assessed on all unliquidated entries of subject merchandise exported by Yulong entered, or withdrawn from warehouse, for consumption on or after April 24, 2008, the date on which the Department published the amended preliminary determination. See Amended Preliminary Determination of Sales at Less Than Fair Value: Circular Welded Carbon Quality Steel Pipe From the People's Republic of China, 73 FR 22130 (April 24, 2008) (“Amended Preliminary Determination”).

With regard to the ITC's negative critical circumstances determination, we will instruct CBP to lift suspension, release any bond or other security, and refund any cash deposit made to secure the payment of antidumping duties with respect to entries of the merchandise entered, or withdrawn from warehouse, for consumption on or after October 17, 2007, but before January 15, 2008 (i.e., the 90 days prior to the date of publication of the Preliminary Determination). In specific regard to Yulong, we will instruct CBP to lift suspension, release any bond or other security, and refund any cash deposit made to secure the payment of antidumping duties with respect to entries of the merchandise entered, or withdrawn from warehouse, for consumption on or after January 25, 2008, but before April 24, 2008 (i.e., the 90 days prior to the date of publication of the Amended Preliminary Determination).

Section 733(d) of the Act states that instructions issued pursuant to an affirmative preliminary determination may not remain in effect for more than four months except where exporters representing a significant proportion of exports of the subject merchandise request the Department to extend that four-month period to no more than six months. At the request of exporters that account for a significant proportion of CWP, we extended the four-month period to no more than six months. See Preliminary Determination, 73 FR at 2446. In this investigation, the six-month period beginning on the date of the publication of the Preliminary Determination (i.e., January 15, 2008) ends on July 13, 2008. Furthermore, section 737 of the Act states that definitive duties are to begin on the date of publication of the ITC's final injury determination. Therefore, in accordance with section 733(d) of the Act and our practice, we will instruct CBP to terminate the suspension of liquidation and to liquidate, without regard to antidumping duties, unliquidated entries of CWP from the PRC entered, or withdrawn from warehouse, for consumption after July 13, 2008, and before the date of publication of the ITC's final injury determination in the Federal Register. Suspension of liquidation will continue on or after the date of publication of the ITC's final injury determination in the Federal Register.

Effective on the date of publication of the ITC's final affirmative injury determination, CBP, pursuant to section 735(c)(3) of the Act, will require, at the same time as importers would normally deposit estimated duties on this merchandise, a cash deposit equal to the estimated weighted-average antidumping duty margins as listed below. The “PRC-wide” rate applies to all exporters of subject merchandise not specifically listed. The weighted-average dumping margins are as follows:

Exporter | Producer | Weighted-Average Margin
Beijing Sai Lin Ke Hardware Co., Ltd. | Xuzhou Guang Huan Steel Tube Products Co., Ltd. | 69.20
Wuxi Fastube Industry Co., Ltd. | Wuxi Fastube Industry Co., Ltd. | 69.20
Jiangsu Guoqiang Zinc-Plating Industrial Co., Ltd. | Jiangsu Guoqiang Zinc-Plating Industrial Co.,Ltd. | 69.20
Wuxi Eric Steel Pipe Co., Ltd. | Wuxi Eric Steel Pipe Co., Ltd. | 69.20
Qingdao Xiangxing Steel Pipe Co., Ltd. | Qingdao Xiangxing Steel Pipe Co., Ltd. | 69.20
Wah Cit Enterprises | Guangdong Walsall Steel Pipe Industrial Co., Ltd. | 69.20
Guangdong Walsall Steel Pipe Industrial Co., Ltd. | Guangdong Walsall Steel Pipe Industrial Co., Ltd. | 69.20
Hengshui Jinghua Steel Pipe Co., Ltd. | Hengshui Jinghua Steel Pipe Co.,Ltd. | 69.20
Zhangjiagang Zhongyuan Pipe-Making Co, Ltd. | Zhangjiagang Zhongyuan Pipe-Making Co., Ltd. | 69.20
Weifang East Steel Pipe Co., Ltd. | Weifang East Steel Pipe Co., Ltd. | 69.20
Shijiazhuang Zhongqing Imp & Exp Co., Ltd. | Bazhou Zhuofa Steel Pipe Co., Ltd. | 69.20
Tianjin Baolai Int'l Trade Co., Ltd. | Tianjin Jinghai County Baolai Business and Industry Co., Ltd. | 69.20
Wai Ming (Tianjin) Int'l Trading Co., Ltd. | Bazhou Dong Sheng Hot-dipped Galvanized Steel Pipes Co., Ltd. | 69.20
Kunshan Lets Win Steel Machinery Co., Ltd. | Kunshan Lets Win Steel Machinery Co., Ltd. | 69.20
Shenyang Boyu M/E Co., Ltd. | Bazhou Dong Sheng Hot-dipped Galvanized Steel Pipes Co., Ltd. | 69.20
Dalian Brollo Steel Tubes Ltd. | Dalian Brollo Steel Tubes Ltd. | 69.20
Benxi Northern Pipes Co., Ltd. | Benxi Northern Pipes Co., Ltd. | 69.20
Shanghai Metals & Minerals Import & Export Corp. | Huludao Steel Pipe Industrial Co. | 69.20
Shanghai Metals & Minerals Import & Export Corp. | Benxi Northern Pipes Co., Ltd. | 69.20
Huludao Steel Pipe Industrial Co. | Huludao Steel Pipe Industrial Co. | 69.20
Tianjin Xingyuda Import & Export Co., Ltd. | Tianjin Lifengyuanda Steel Group | 69.20
Tianjin Xingyuda Import & Export Co., Ltd. | Tianjin Xingyunda Steel Pipe Co. | 69.20
Tianjin Xingyuda Import & Export Co., Ltd. | Tianjin Lituo Steel Products Co. | 69.20
Tianjin Xingyuda Import & Export Co., Ltd. | Tangshan Fengnan District Xinlida Steel Pipe Co., Ltd. | 69.20
Jiangyin Jianye Metal Products Co., Ltd. | Jiangyin Jianye Metal Products Co., Ltd. | 69.20
Rizhao Xingye Import & Export Co., Ltd. | Shandong Xinyuan Group Co., Ltd. | 69.20
Tianjin No. 1 Steel Rolled Co., Ltd. | Tianjin Hexing Steel Co., Ltd. | 69.20
Tianjin No. 1 Steel Rolled Co., Ltd. | Tianjin Ruitong Steel Co., Ltd. | 69.20
Tianjin No. 1 Steel Rolled Co., Ltd. | Tianjin Yayi Industrial Co. | 69.20
Kunshan Hongyuan Machinery Manufacture Co., Ltd. | Kunshan Hongyuan Machinery Manufacture Co., Ltd. | 69.20
Qingdao Yongjie Import & Export Co., Ltd. | Shandong Xinyuan Group Co., Ltd. | 69.20
PRC-Wide Entity |  | 85.55

This notice constitutes the antidumping duty order with respect to CWP from the PRC pursuant to section 736(a) of the Act. Interested parties may contact the Department's Central Records Unit, Room 1217 of the main Commerce building, for copies of an updated list of antidumping duty orders currently in effect.

This order is published in accordance with section 736(a) of the Act and 19 CFR 351.211.

Dated: July 16, 2008.
David M. Spooner,
Assistant Secretary for Import Administration.

[FR Doc. E8-16767 Filed 7-21-08; 8:45 am]

BILLING CODE 3510-DS-S